DEPARTMENT OF TRANSPORTATION

Federal Railroad Administration

[Docket Number FRA-2003-15012]

Petition for Extension of Waiver of Compliance

Under part 211 of title 49 Code of Federal Regulations (CFR), this document provides the public notice that on February 28, 2024, Canadian National Railway Company (CN) petitioned the Federal Railroad Administration (FRA) for an extension of a waiver of compliance from certain provisions of the Federal railroad safety regulations contained at 49 CFR part 241 (United States Locational Requirements for Dispatching of United States Rail Operations). The relevant FRA Docket Number is FRA-2003-15012.Specifically, CN requests an extension of relief pursuant to 49 CFR 241.7(c), Fringe border dispatching, to allow the continuation of Canadian dispatching of two locations in the United States: the portion of the Sprague Subdivision extending approximately 43.8 miles between Baudette and International Boundary, Minnesota, and the portion of the Strathroy Subdivision extending approximately 3.1 miles between Sarnia, Ontario, Canada, through the St. Clair River Tunnel, to Port Huron, Michigan.¹ In support of its request, CN states that, since the initial waiver was granted, “each of these fringe border segments ha[ve] been regularly and safety dispatched from Canada” and this extension would allow CN to “continue what it has been safely doing for decades.” CN explains that changing dispatching to the United States on this section of the Sprague Subdivision “would introduce two [dispatching] hand-offs, given that the track only briefly enters the United States before re-entering Canada.” Additionally, in reference to the portion of track on the Strathroy Subdivision, CN states that grating the waiver extension “avoids any risk or safety concern associated with a [dispatching] hand-off in the middle of a single-track underwater tunnel.”

¹ Both of these locations are defined in appendix A to part 241, List of Lines Being Extraterritorially Dispatched in Accordance with the Regulations Contained in 49 CFR part 241, Revised as of October 1, 2002.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at https://www.regulations.gov. Follow the online instructions for submitting comments.

Communications received by July 8, 2024 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-10177 Filed 5-8-24; 8:45 am]

BILLING CODE 4910-06-P